DEPARTMENT OF TRANSPORTATION

Federal Motor Carrier Safety Administration

49 CFR Part 391

[Docket No. FMCSA-2025-0113]

RIN 2126-AC87

Qualifications of Drivers; Vision Standards Grandfathering Provision

AGENCY: Federal Motor Carrier Safety Administration (FMCSA), Department of Transportation (DOT).

ACTION: Final rule.

SUMMARY: FMCSA amends the Federal Motor Carrier Safety Regulations to remove the grandfathering provision under the physical qualifications standards for interstate drivers operating under the vision waiver study program administered from 1992 through 1994, and the vision exemption program operated from 1998 through 2022, as the grandfathering provision is now obsolete. FMCSA's current rules permit individuals who do not satisfy, with the worse eye, either the existing distant visual acuity standard with corrective lenses or the field of vision standard, or both, to be physically qualified to operate a commercial motor vehicle (CMV) in interstate commerce under specified conditions.

DATES: Effective March 23, 2026. Petitions for reconsideration of this final rule must be submitted to the FMCSA Administrator no later than March 23, 2026.

FOR FURTHER INFORMATION CONTACT: Evangela Hollowell, Acting Chief, Medical Programs Division, FMCSA, DOT, 1200 New Jersey Avenue SE, Washington, DC 20590-0001; (202) 527-4750; fmcsamedical@dot.gov. Office hours are from 8:30 a.m. to 5 p.m. ET Monday through Friday, except Federal holidays. If you have questions on viewing or submitting material to the docket, call Dockets Operations at (202) 366-9826.

SUPPLEMENTARY INFORMATION: FMCSA organizes this final rule as follows:

I. Availability of Rulemaking Documents

II. Background

III. Abbreviations

IV. Legal Basis

V. Discussion of the Proposed Rulemaking and Comments

A. Proposed Rulemaking

B. Comments and Responses

C. Final Rule

V. International Impacts

VI. Section-by-Section Analysis

VII. Regulatory Analyses

A. E.O. 12866 (Regulatory Planning and Review) and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0113/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

CE Categorical Exclusion

CFR Code of Federal Regulations

CMV Commercial motor vehicle

DOT Department of Transportation

FHWA Federal Highway Administration

FMCSA Federal Motor Carrier Safety Administration

FR Federal Register

ME Medical examiner

NPRM Notice of proposed rulemaking

OMB Office of Management and Budget

PIA Privacy Impact Assessment

PII Personally Identifiable Information

PTA Privacy Threshold Assessment

UMRA Unfunded Mandates Reform Act of 1995

U.S.C. United States Code

III. Background

FMCSA's mission is to reduce crashes, injuries, and fatalities involving large trucks and buses. As discussed above, FMCSA is authorized by statute to establish minimum physical qualification standards for drivers of CMVs operating in interstate commerce. Physical qualification requirements date back to 1937, as implemented by the ICC's Bureau of Motor Carrier Safety (2 FR 113, Jan. 22, 1937). Regulations setting forth the physical qualification standards are currently found in 49 CFR part 391, with the vision requirements at 49 CFR 391.41(b)(10).

The Federal Highway Administration (FHWA), which administered the physical qualification standards for CMV drivers prior to the transfer of this function to FMCSA, revised the vision standard in 1970 (35 FR 6458, 6463, Apr. 22, 1970). Although medical examiners (MEs) who are knowledgeable about the on-the-job functions performed by a commercial driver make the determination about a driver's qualifications and whether the driver has a condition that would interfere with the operation of a CMV for most of the 13 physical qualification standards, FHWA's vision standard was absolute and provided no discretion to the ME. Thus, any individual who did not meet the vision standard in its entirety could not be physically qualified to drive a CMV in interstate commerce.

In July 1992, FHWA announced its decision to issue waivers of the vision requirements and published the final criteria for the vision waiver study program (57 FR 31458, July 16, 1992). Under the vision waiver study program, FHWA issued waivers to drivers following an individual determination of each driver's capability to operate a CMV safely. On August 2, 1994, the United States Court of Appeals for the District of Columbia Circuit found that FHWA's determination that the vision waiver study program would not adversely affect the safe operation of CMVs lacked empirical support in the record (Advocates for Highway and Auto Safety v. FHWA, 28 F.3d 1288, 1294 (D.C. Cir. 1994)). Accordingly, the court found that FHWA failed to meet the exacting statutory requirements to grant a waiver. Consequently, the court concluded that FHWA's adoption of the waiver program was contrary to law and vacated and remanded the decision to FHWA.

On November 17, 1994, FHWA published notice of its final determination to continue the vision waiver study program through March 31, 1996, and announced a change in the research plan (59 FR 59386). On March 26, 1996, FHWA issued a rule to allow those drivers participating in the vision waiver study program and holding valid waivers from the vision standard to continue to operate in interstate commerce after March 31, 1996 (61 FR 13338). FHWA amended 49 CFR part 391 by adding a new provision at section 391.64 to grant grandfather rights to these drivers, subject to certain conditions.

Following the enactment of the Transportation Equity Act for the 21st Century (TEA-21) (Pub. L. 105-178, 112 Stat. 107, 401, June 9, 1998), which made amendments to the statutes governing exemptions, FHWA established a vision exemption program on December 8, 1998 (63 FR 67600). FHWA, and later FMCSA, monitored the safety performance of drivers in the vision waiver study and the current exemption programs continuously. Based on the experience with the vision waiver study and exemption programs, FMCSA determined that the safety performance of individuals in these programs is at least as good as that of the general population of CMV drivers. Accordingly, in 2022, FMCSA amended its regulations to permit an individual who does not satisfy, with the worse eye, either the existing distant visual acuity standard with corrective lenses or the field of vision standard, or both, to be physically qualified to operate a CMV in interstate commerce if the individual satisfies the new alternative vision standard found at section 391.44, along with FMCSA's other physical qualification standards and other requirements (87 FR 3390, Jan. 21, 2022). The 2022 rule eliminated the need for both the vision exemption program that then existed and the grandfather provision in section 391.64 for drivers operating under the previously administered vision waiver study program.

The grandfathering provision remained in effect until March 22, 2023. After that date, all drivers were required to meet the new alternative vision standard and all Medical Examiner Certificates, Form MCSA-5876, issued under section 391.64 were voided. As the grandfathering provision is no longer applicable to any drivers, FMCSA has determined it should now be removed.

IV. Legal Basis

FMCSA has authority under 49 U.S.C. 31136(a) and 31502(b)—delegated to the Agency by 49 CFR 1.87(f) and (i), respectively—to establish minimum qualifications, including physical qualifications, for individuals operating commercial motor vehicles (CMVs) in interstate commerce. Section 31136(a)(3) requires specifically that the Agency's safety regulations ensure that the physical condition of CMV drivers is adequate to enable them to operate their vehicles safely and that certified MEs trained in physical and medical examination standards perform the physical examinations required of such drivers.

In addition to the statutory requirements specific to the physical qualifications of CMV drivers, section 31136(a) requires the Secretary of Transportation (Secretary) to issue regulations on CMV safety, including regulations to ensure that CMVs “are maintained, equipped, loaded, and operated safely” (section 31136(a)(1)). The remaining statutory factors and requirements in section 31136(a), to the extent they are relevant, are also satisfied here. The final rule will not impose any “responsibilities . . . on operators of [CMVs that would] impair their ability to operate the vehicles safely” (section 31136(a)(2)), or “have a deleterious effect on the physical condition” of CMV drivers (section 31136(a)(4)). FMCSA also does not anticipate that drivers will be coerced to operate a vehicle because of this final rule (section 31136(a)(5)).

Finally, prior to prescribing any regulations, FMCSA must consider their “costs and benefits” (49 U.S.C. 31136(c)(2)(A) and 31502(d)). Those factors are discussed in the Regulatory Analyses section of this final rule.

V. Discussion of Proposed Rulemaking and Comments

A. Proposed Rulemaking

In a proposed rulemaking published on May 30, 2025 (90 FR 22912), FMCSA proposed removing 49 CFR 391.64(b), which set out the requirements for participants in the vision waiver study program to remain grandfathered into that program until March 22, 2023. This change will not affect any current CMV drivers because, under the 2022 final rule, all drivers have been required to satisfy the alternative vision standard set out at 49 CFR 391.44 since March 22, 2023.

While the 2022 final rule amended 49 CFR 391.64(b) to include the date the provisions of that paragraph would no longer be in effect, it did not contain any instructions for the removal of those provisions from the CFR. Thus, the Agency proposed removing the obsolete language from FMCSA's regulations.

B. Comments and Responses

FMCSA solicited comments concerning the NPRM for 60 days ending July 29, 2025. By that date, the Agency received three comments. The American Trucking Associations and the Owner-Operator Independent Drivers Association both supported removing the obsolete provision. The third comment, received from an individual commenter, raised issues outside of the scope of this rulemaking.

C. Final Rule

The Agency did not receive any suggestions for modifications or comments that would cause it to reevaluate its proposal during the public comment period. Therefore, FMCSA is finalizing the rule as proposed, without change.

VI. International Impacts

Motor carriers and drivers are subject to the laws and regulations of the countries where they operate, unless an international agreement states otherwise. Drivers and carriers should be aware of the regulatory differences between nations.

VII. Section-by-Section Analysis

This section-by-section analysis describes the changes in numerical order.

SECTION 391.64 Grandfathering for certain drivers who participated in a vision waiver study program.

FMCSA will remove 49 CFR 391.64 (b). As paragraph (a) is currently reserved, the title of the section will be amended to indicate that the entire section is now reserved.

VIII. Regulatory Analyses

A. Executive Order (E.O.) 12866 (Regulatory Planning and Review) and DOT Regulatory Policies and Procedures

FMCSA has considered the impact of this final rule under E.O. 12866 (58 FR 51735, Oct. 4, 1993), Regulatory Planning and Review, and DOT Order 2100.6B.¹ The Office of Information and Regulatory Affairs within the Office of Management and Budget (OMB) determined that this final rule is not a significant regulatory action under section 3(f) of E.O. 12866 and has not reviewed it under that E.O.

¹ DOT Order 2100.6B is available at https://www.transportation.gov/regulations/dot-order-21006b-policies-and-procedures-rulemakings.

This final rule will remove obsolete language that is no longer relevant. FMCSA does not expect that any regulated entities will change their behavior as a result of this rule, and therefore the final rule will not result in any impacts to regulated entities other than removing unnecessary language from the CFR. It could result in some cost savings by reducing the amount of time to become familiar with the regulations. FMCSA assumes any realized cost savings to be de minimis. FMCSA does not have data to estimate the reduction in costs that will result from this final rule.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ²

² Executive Office of the President, Executive Order 14192 of January 31, 2025, Unleashing Prosperity Through Deregulation, 90 FR 9065-9067, (Feb. 6, 2025).

Implementation guidance for E.O. 14192 issued by OMB (Memorandum M-25-20, Mar. 26, 2025) defines two different types of E.O. 14192 actions: an E.O. 14192 deregulatory action, and an E.O. 14192 regulatory action.³

³ OMB, Guidance Implementing Section 3 of Executive Order 14192, Titled “Unleashing Prosperity Through Deregulation,” Memorandum M-25-20, (Mar. 26, 2025).

An E.O. 14192 deregulatory action is defined as “an action that has been finalized and has total costs less than zero.” This final rule is expected to have total costs less than zero and therefore is considered an E.O. 14192 deregulatory action. The cost savings of this final rule could not be quantified.

Congressional Review Act

This rule is not a major rule as defined under the Congressional Review Act (5 U.S.C. 801-808).” ⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities means small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857, (Mar. 29, 1996).

No regulatory flexibility analysis is required, however, if the head of an agency or an appropriate designee certifies that the rule will not have a significant economic impact on a substantial number of small entities. This final rule will remove obsolete regulatory text that is no longer impacting regulated entities and will not impose costs or benefits. Therefore, it will not impact a substantial number of small entities. It can result in some cost savings by reducing the amount of time necessary to become familiar with the regulations. FMCSA considers any realized cost savings to be de minimis. Consequently, I certify that the final rule will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520).

H. E.O. 13132 (Federalism)

A rule has implications for federalism under section 1(a) of E.O. 13132 if it has “substantial direct effects on the States, on the relationship between the national government and the States, or on the distribution of power and responsibilities among the various levels of government.”

FMCSA has determined that this final rule will not have substantial direct costs on or for States, nor will it limit the policymaking discretion of States. Nothing in this document preempts any State law or regulation. Therefore, this final rule does not have sufficient federalism implications to warrant the preparation of a Federalism Impact Statement.

I. Privacy

The Consolidated Appropriations Act, 2005,⁶ requires the Agency to assess the privacy impact of a regulation that will affect the privacy of individuals. This final rule will not require the collection of personally identifiable information (PII).

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a Privacy Impact Analysis (PIA) for new or substantially changed technology that collects, maintains, or disseminates information in an identifiable form. No new or substantially changed technology will collect, maintain, or disseminate information as a result of this final rule. Accordingly, FMCSA has not conducted a PIA.

⁷ Public Law 107-347, sec. 208, 116 Stat. 2899, 2921 (Dec. 17, 2002).

In addition, the Agency submitted a Privacy Threshold Assessment (PTA) to evaluate the risks and effects the rulemaking may have on collecting, storing, and sharing personally identifiable information. The PTA was adjudicated by DOT's Chief Privacy Officer on September 17, 2025.

J. E.O. 13175 (Indian Tribal Governments)

This final rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this final rule pursuant to the National Environmental Policy Act of 1969 (42 U.S.C. 4321 et seq.). The Agency believes this final rule will not have a reasonably foreseeable significant effect on the quality of the human environment. This action falls under a published categorical exclusion (CE) and is thus excluded from further analysis and documentation in an environmental assessment or environmental impact statement under DOT Order 5610.1D,⁸ Subpart B, paragraphs (e)(6)(b) and (e)(6)(z)(1). The CE in paragraph (e)(6)(b) covers regulations that are procedural or technical in nature, and (e)(6)(z)(1) covers the minimum qualifications for persons who drive CMVs.

⁸ Available at https://www.transportation.gov/mission/dots-procedures-considering-environmental-impacts.

List of Subjects in 49 CFR Part 391

Motor carriers, Reporting and recordkeeping requirements, Safety, Transportation.

Accordingly, FMCSA amends 49 CFR part 391 to read as follows:

PART 391—QUALIFICATIONS OF DRIVERS AND LONGER COMBINATION VEHICLE (LCV) DRIVER INSTRUCTORS

1. The authority citation for part 391 continues to read as follows:

Authority: 49 U.S.C. 504, 508, 31133, 31136, 31149, 31502; sec. 4007(b), Pub. L. 102-240, 105 Stat. 1914, 2152; sec. 114, Pub. L. 103-311, 108 Stat. 1673, 1677; sec. 215, Pub. L. 106-159, 113 Stat. 1748, 1767; sec. 32934, Pub. L. 112-141, 126 Stat. 405, 830; secs. 5403 and 5524, Pub. L. 114-94, 129 Stat. 1312, 1548, 1560; sec. 2, Pub. L. 115-105, 131 Stat. 2263; and 49 CFR 1.87.

§ 391.64 [Removed and Reserved]

2. Remove and reserve section 391.64.

Issued under authority delegated in 49 CFR 1.87.
Derek Barrs,
Administrator.

[FR Doc. 2026-03258 Filed 2-18-26; 8:45 am]

BILLING CODE 4910-EX-P